DEPARTMENT OF HOMELAND SECURITY

Coast Guard

[Docket No. USCG-2019-0483]

National Towing Safety Advisory Committee; Initial Solicitation for Members

AGENCY: Coast Guard, Department of Homeland Security.

ACTION: Request for applications.

SUMMARY: The Coast Guard is requesting applications from persons interested in serving as a member of the National Towing Safety Advisory Committee (“Committee”). This recently established Committee will advise the Secretary of the Department of Homeland Security on matters relating to shallow-draft inland navigation, coastal waterway navigation, and towing safety. Please read this notice for a description of the 18 Committee positions we are seeking to fill.

DATES: Your completed application should reach the Coast Guard on or before March 16, 2020.

ADDRESSES: Applicants should send a cover letter expressing interest in an appointment to the National Towing Safety Advisory Committee and a resume detailing the applicant's experience. We will not accept a biography. Applications for members drawn from the general public must be accompanied by a completed OGE Form 450 (see supplementary information below).

Applications should be submitted via one of the following methods:

• By Email: Matthew.D.Layman@uscg.mil (preferred).

• By Fax: 202-372-8382; ATTN: Mr. Matthew Layman, Alternate Designated Federal Officer; or

• By Mail: Mr. Matthew Layman, Alternate Designated Federal Officer, Commandant (CG-OES-2), U.S. Coast Guard Stop 7509, 2703 Martin Luther King Jr. Avenue SE, Washington, DC 20593-7509.

FOR FURTHER INFORMATION CONTACT: Mr. Matthew Layman, Alternate Designated Federal Officer of the National Towing Safety Advisory Committee; Telephone 202-372-1421; or Email at Matthew.D.Layman@uscg.mil.

SUPPLEMENTARY INFORMATION: The National Towing Safety Advisory Committee is a Federal advisory committee. It will operate under the provisions of the Federal Advisory Committee Act, 5 United States Code, Appendix, and the administrative provisions in Section 601 of the Frank LoBiondo Coast Guard Authorization Act of 2018 (specifically, 46 U.S.C. 15109).

The Committee was established on December 4, 2018, by the Frank LoBiondo Coast Guard Authorization Act of 2018, which added section 15108, National Towing Safety Advisory Committee, to Title 46 of the U.S. Code (46 U.S.C. 15108). The Committee will advise the Secretary of Homeland Security on matters relating to shallow-draft inland navigation, coastal waterway navigation, and towing safety.

The Committee is required to hold meetings at least once a year in accordance with 46 U.S.C. 15109(a). The meetings are generally held in cities that have a high concentration of towing-industry and related businesses.

All members serve at their own expense and receive no salary or other compensation from the Federal Government. Members may be reimbursed, however, for travel and per diem in accordance with Federal Travel Regulations.

Under provisions in 46 U.S.C. 15109(f)(6), if you are appointed as a member of the Committee, your membership term will expire on December 31 of the third full year after the effective date of your appointment. In this initial solicitation for Committee members, we will consider applications for all 18 positions:

• Seven members to represent the barge and towing industry, reflecting a regional geographic balance;

• One member to represent the offshore mineral and oil supply vessel industry;

• One member to represent masters and pilots of towing vessels who hold active licenses and have experience on the Western Rivers and the Gulf Intracoastal Waterway;

• One member to represent masters of towing vessels in offshore service who hold active licenses;

• One member to represent masters of active ship-docking or harbor towing vessels;

• One member to represent licensed and unlicensed towing vessel engineers with formal training and experience;

• Two members to represent port districts, authorities, or terminal operators;

• Two members to represent shippers and, of the two, one engaged in the shipment of oil or hazardous materials by barge; and

• Two members drawn from the general public.

Each member of the Committee must have particular expertise, knowledge, and experience in matters relating to the function of the Committee which is to advise the Secretary of Homeland Security on matters relating to shallow-draft inland navigation, coastal waterway navigation, and towing safety.

If you are selected as a member drawn from the general public, you will be appointed and serve as a Special Government Employee as defined in section 202(a) of Title 18, United States Code. Applicants for appointment as a Special Government Employee are required to complete a Confidential Financial Disclosure Report (OGE Form 450) for new entrants and if appointed as a member must submit Form 450 annually. The Coast Guard may not release the reports or the information in them to the public except under an order issued by a Federal Court or as otherwise provided under the Privacy Act (5 U.S.C. 552a). Only the Designated U.S. Coast Guard Ethics Official or his or her designee may release a Confidential Financial Disclosure Report. Applicants can obtain this form by going to the website of the Office of Government Ethics (www.oge.gov), or by calling or emailing the individual listed above in the FOR FURTHER INFORMATION CONTACT section.

Registered lobbyists are not eligible to serve on Federal Advisory Committees in an individual capacity. See “Revised Guidance on Appointment of Lobbyists to Federal Advisory Committees, Boards and Commissions” (79 FR 47482, August 13, 2014). Registered lobbyists are “lobbyists,” as defined in 2 U.S.C. 1602, who are required by 2 U.S.C. 1603 to register with the Secretary of the Senate and the Clerk of the House of Representatives.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, send your cover letter and resume to Mr. Matthew Layman, Alternate Designated Federal Officer of the National Towing Safety Advisory Committee via one of the transmittal methods in the ADDRESSES section by the deadline in the DATES section of this notice. If you send your application to us via email, we will send you an email confirming receipt of your application.

Dated: January 8, 2020.
Jeffrey G. Lantz,
Director of Commercial Regulations and Standards.

[FR Doc. 2020-00354 Filed 1-13-20; 8:45 am]

BILLING CODE 9110-04-P